DEPARTMENT OF AGRICULTURE

Food Safety and Inspection Service

[Docket No. FSIS-2009-0024]

Codex Alimentarius Commission: Thirtieth Session of the Codex Committee on Fish and Fishery Products

AGENCY: Office of the Acting Under Secretary for Food Safety, USDA.

ACTION: Notice of public meeting and request for comments.

SUMMARY: The Office of the Acting Under Secretary for Food Safety, U.S. Department of Agriculture (USDA), and the Food and Drug Administration (FDA), U.S. Department of Health and Human Services, are sponsoring a public meeting on September 2, 2009. The objective of the public meeting is to provide information and receive public comments on agenda items and draft United States positions that will be discussed at the 30th Session of the Codex Committee on Fish and Fishery Products (CCFFP) of the Codex Alimentarius Commission (Codex), which will be held in Agadir, Morocco from September 28 to October 2, 2009. The Acting Under Secretary for Food Safety and the FDA recognize the importance of providing interested parties the opportunity to obtain background information on the 30th Session of the CCFFP and to address items on the agenda.

DATES: The public meeting is scheduled for Wednesday, September 2, 2009, from 1 p.m. to 4 p.m.

ADDRESSES: The public meeting will be held in the Harvey Wiley Federal Building, 5100 Paint Branch Parkway, College Park, Maryland 20740. The meeting room number is 1A001. Documents related to the 30th Session of the CCFFP will be accessible via the World Wide Web at the following address: http://www.codexalimentarius.net/current.asp.

The U.S. Delegate to the 30th Session of the CCFFP, Mr. Donald Kraemer, Food and Drug Administration, invites interested U.S. parties to submit their comments electronically to the following e-mail address Melissa.Ellwanger@fda.hhs.gov.

Registration

To gain admittance to this meeting, individuals must present a photo ID for identification and also are required to pre-register. In addition, no cameras or videotaping equipment will be permitted in the meeting room. To pre-register, please send the following information to this e-mail address: Melissa.Ellwanger@fda.hhs.gov by August 17th, 2009:

—Your Name,

—Organization,

—Mailing Address,

—Phone number,

—E-mail address.

For Further Information About the 30th Session of the CCFFP Contact: Melissa Ellwanger, Assistant to the U.S. Delegate to the CCFFP, FDA, Center for Food Safety and Applied Nutrition, Harvey W. Wiley Federal Building, 5100 Paint Branch Parkway, College Park, MD 20740-3835; Phone: (301) 436-1401; Fax: (301) 436-2601. E-mail: Melissa.Ellwanger@fda.hhs.gov.

For Further Information About the Public Meeting Contact: Doreen Chen-Moulec, Staff Officer, U.S. Codex Office, Food Safety and Inspection Service (FSIS), Room 4865, South Building, 1400 Independence Avenue SW., Washington, DC 20250, Phone: (202) 7205-7760, Fax: (202) 720-3157, E-mail: doreen.chen-moulec@fsis.usda.gov.

SUPPLEMENTARY INFORMATION:

Background

The Codex Alimentarius Commission (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The CCFFP was established to elaborate codes, standards and related texts for fish and fishery products. The CCFFP is hosted by Norway.

Issues To Be Discussed at the Public Meeting

The following items on the agenda for the 30th Session of the CCFFP will be discussed during the public meeting:

• Matters referred to the CCFFP from other Codex bodies

• Draft Code of Practice for Fish and Fishery Products (Lobsters and Relevant Definitions)

• Draft Code of Practice for Fish and Fishery Products (Crabs and Relevant Definitions)

• Draft Standard for Sturgeon Caviar

• Draft List of Methods for the Determination of Biotoxins in the Standard for Raw and Live Bivalve Mollusks

• Proposed Draft Code of Practice for Fish and Fishery Products (Other Sections including Smoked Fish)

• Proposed Draft Standard for Smoked Fish, Smoked-Flavored Fish and Smoked-Dried Fish

• Proposed Draft Code of Practice on the Processing of Scallop Meat

• Proposed Draft Standard for Quick Frozen Scallop Adductor Muscle Meat

• Proposed Draft Revision of the Procedure for the Inclusion of Additional Species in Standards for Fish and Fishery Products

• Proposed Draft Standard for Fresh/Live and Frozen Abalone (Haliotis spp)

• Proposed Draft Standard for Fish Sauce

• Proposed Draft Amendment to the Standard for Quick Frozen Fish Sticks (Nitrogen Factors)

• Food Additive Provisions in Standards for Fish and Fishery Products

Each issue listed will be fully described in documents distributed, or to be distributed, by the Secretariat prior to the meeting. Members of the public may access copies of these documents at http://www.codexalimentarius.net/current.asp.

Public Meeting

At the September 2, 2009, public meeting, draft U.S. positions on the agenda items will be described and discussed, and attendees will have the opportunity to pose questions and offer comments. Written comments may be offered at the meeting or sent to the U.S. Delegate for the 30th Session of the CCFFP, Mr. Donald Kraemer, at Melissa.Ellwanger@fda.hhs.gov. Written comments should state that they relate to activities of the 30th Session of the CCFFP.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on August 3, 2009.
Karen Stuck,
U.S. Manager for Codex Alimentarius.

[FR Doc. E9-18926 Filed 8-6-09; 8:45 am]

BILLING CODE 3410-DM-P